DEPARTMENT OF AGRICULTURE

Forest Service

Information Collection; Commercial Use of the Woodsy Owl Symbol

AGENCY: Forest Service, USDA.

ACTION: Notice; request for comment.

SUMMARY: In accordance with the Paperwork Reduction Act of 1995, the Forest Service is seeking comments from all interested individuals and organizations on the currently approved information collection, Commercial Use of the Woodsy Owl Symbol.

DATES: Comments must be received in writing on or before July 10, 2018 to be assured of consideration. Comments received after that date will be considered to the extent practicable.

ADDRESSES: Comments concerning this notice should be addressed to the Office of the Conservation Education Program, National Symbols Program Manager, U.S. Forest Service, 201 14th Street SW, Mail Stop 1147, Washington, DC 20250-1147.

Comments also may be submitted via email to ivelez@fs.fed.us. The public may inspect comments received at the Office of Conservation Education Program, Room 1C, U.S. Forest Service, 201 14th Street SW, Washington, DC. Visitors are urged to call ahead to 202-205-5681 to facilitate entrance into the building.

FOR FURTHER INFORMATION CONTACT: Iris Velez, National Symbols Program Manager, Office of Conservation Education Program, at 202-205-5681. Individuals who use telecommunication devices for the deaf (TDD) may call the Federal Relay Service (FRS) at 1-800-877-8339 between 8 a.m. and 8 p.m., Eastern Standard Time, Monday through Friday.

SUPPLEMENTARY INFORMATION:

Title: Commercial Use of the Woodsy Owl Symbol.

OMB Number: 0596-0087.

Expiration Date of Approval: 06/30/2018.

Type of Request: Extension of a currently approved collection.

Abstract: The Woodsy Owl-Smoky Bear Act of 1974 established the Woodsy Owl symbol and slogan, authorizes the Secretary of Agriculture to manage the use of the slogan and symbol, authorizes the licensing of the symbol for commercial use, and provides for continued protection of the symbol. Part 272 of Title 36 of the Code of Federal Regulations authorizes the Chief of the Forest Service to approve commercial use of the Woodsy Owl symbol and to collect royalty fees. Commercial use includes replicating Woodsy Owl symbol or logo on items, such as tee shirts, mugs, pins, figurines, ornaments, stickers, and toys and using the image and or slogan of the icon in motion pictures, documentaries, TV, magazine stories, and books, magazines, and other for-profit paper products.

Woodsy Owl is America's symbol for the conservation of the environment. The public service campaign slogans associated with Woodsy Owl are “Give a Hoot, Don't Pollute” and “Lend a Hand, Care for the Land.” The mission statement of the Woodsy Owl's conservation campaign is to help young children discover the natural world and join in life-long actions to care for that world.

The USDA Forest Service National Symbols Program Manager will use the collected information to determine if the applicant will receive a license or renewal of an existing license and the associated royalty fees. Information collected includes, but is not limited to, tenure of business or non-profit organization, current or planned products, physical location, projected sales volume, and marketing plans. Licensees submit quarterly reports, which include:

1. A list of each item sold with the Woodsy Owl symbol.

2. Projected sales of each item.

3. The sales price of each item.

4. Total sales subject to Forest Service royalty fee.

5. Royalty fee due based on sales quantity and price.

6. Description and itemization of deductions (such as fees waived or previously paid as part of advance royalty payment).

7. The new total royalty fee the business or organization must pay after deductions.

8. The running total amount of royalties accrued in that fiscal year.

9. The typed name and signature of the business or organizational employee certifying the truth of the report.

Data gathered in this information collection are not available from other sources.

Type of Respondents: Individuals, for profit businesses and non-profit organizations.

Estimated Annual Number of Respondents: 21 licensees, of which an average of 10 respond per year.

Estimated Annual Number of Responses per Respondent: 4.

Estimated Total Annual Burden on Respondents: 20 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: April 24, 2018.
Patricia Hirimi,
Acting Deputy Chief, State and Private Forestry.

[FR Doc. 2018-10028 Filed 5-10-18; 8:45 am]

BILLING CODE 3411-15-P